DEPARTMENT OF JUSTICE

Notice of Lodging of Proposed Consent Decree Under the Clean Water Act and Oil Pollution Act

Notice is hereby given that on October 5, 2015, a proposed Consent Decree (“Decree”) will be lodged in U.S. v. BP Exploration and Production, et al, Civil No. 10-4536 (E.D. La.) (centralized in MDL 2179: In Re: Oil Spill by the Oil Rig “Deepwater Horizon” in the Gulf of Mexico, on April 20, 2010).

In this civil enforcement action the United States sought, among other things, civil penalties under Section 311(b) of the Clean Water Act, 33 U.S.C. 1321(b), and a declaration of liability for natural resource damages under the Oil Pollution Act, 33 U.S.C. 2702, against BP Exploration and Production Company, Inc. (“BP”). The claims arise against BP (and other defendants as well) from the discharge of oil into the Gulf of Mexico resulting from the blowout of the Macondo Well that began in April 2010.

Under the proposed Decree, BP, among other things, will pay (1) a $5.5 billion civil penalty under the Clean Water Act; (2) $8.1 billion for natural resource damages under the Oil Pollution Act (including the $1 billion that BP had previously pledged under a prior agreement), plus up to $700 million additional for unknown conditions and adaptive management; (3) $350 million for State and federal natural resource damages assessment costs; and (4) $250 million for other federal costs, including removal costs under the Oil Pollution Act, royalties, and a False Claims Act penalty.

The Department of Justice will receive comments relating to the proposed Decree, for a period of sixty (60) calendar days from the date of this publication.

Comments to the Department of Justice related to the Consent Decree should be addressed to the Assistant Attorney General, Environment and Natural Resources Division, and can be submitted via the web at http://www.justice.gov/enrd/deepwater-horizon or mailed to P.O. Box 7611, U.S. Department of Justice, Washington, DC 20044-7611, and should refer to U.S. v. BP Exploration and Production et al, Civil No. 10-4536 (E.D. La.) (centralized in MDL 2179: In Re: Oil Spill by the Oil Rig “Deepwater Horizon” in the Gulf of Mexico, April 20, 2012), D.J. Ref. 90-5-1-1-10026.

During the public comment period, the proposed Decree may be examined on the following Department of Justice Web site: http://www.justice.gov/enrd/deepwater-horizon. A copy of the proposed Decree may also be obtained by mail from the Consent Decree Library, P.O. Box 7611, U.S. Department of Justice, Washington, DC 20044-7611, or by faxing or emailing a request to “Consent Decree Copy” (EESCDCopy.ENRD@usdoj.gov), fax no. (202) 514-0097, phone confirmation number (202) 514-5271. If requesting a copy from the Consent Decree Library by mail, please enclose a check in the amount of $90.00 (25 cents per page reproduction cost) payable to the U.S. Treasury or, if requesting by fax, forward a check in that amount to the Consent Decree Library at the address given above.

In accordance with section 7003(d) of RCRA, the Department has scheduled a series of public meetings to receive information on the Consent Decree in addition to the comment process described above. Both written and oral public comments will be taken at each public meeting. The Department will hold an open house for each meeting followed by a formal meeting. Each public meeting will include a presentation of the proposed Consent Decree. The public meeting schedule is as follows:

Date | Time (local times) | Location
Mon., Oct. 19, 2015 | 5 p.m. Open House 6 p.m. Public Meeting | Courtyard by Marriott—Houma, 142 Liberty Boulevard, Houma, LA 70360.
Tues., Oct. 20, 2015 | 5 p.m. Open House 6 p.m. Public Meeting | University of Southern Mississippi, Long Beach, FEC Auditorium, 730 East Beach Boulevard, Long Beach, MS 39560.
Thurs., Oct. 22, 2015 | 5 p.m. Open House 6 p.m. Public Meeting | Hilton Garden Inn, New Orleans Convention Center, Garden Ballroom, 10001 South Peters Street, New Orleans, LA 70130.
Mon., Oct. 26, 2015 | 6 p.m. Open House 7 p.m. Public Meeting | The Battle House Renaissance Mobile Hotel & Spa, 26 North Royal Street, Mobile, AL 36602.
Tues., Oct. 27, 2015 | 6 p.m. Open House 7 p.m. Public Meeting | Pensacola Bay Center, 201 E Gregory Street Pensacola, FL, 32502.
Thurs., Oct. 29, 2015 | 6 p.m. Open House 7 p.m. Public Meeting | Hilton St. Petersburg Bayfront, 333 1st Street South, St. Petersburg, FL 33701.
Tues., Nov. 10, 2015 | 6 p.m. Open House 7 p.m. Public Meeting | Hilton Galveston Island Resort, Crystal Ballroom, 5400 Seawall Boulevard Galveston, TX 77551.
Wed., Nov. 18, 2015 | 6 p.m. Open House 7 p.m. Public Meeting | DoubleTree by Hilton Hotel Washington DC, 1515 Rhode Island Avenue, NW., Washington, DC 20005.

Finally, please note that simultaneously, the Federal and State Trustee agencies are holding a public comment period on a proposed “Deepwater Horizon Programmatic Damage Assessment and Restoration Plan/Programmatic Environmental Impact Statement (“PDARP/PEIS”).” The PDARP/PEIS is related to the Consent Decree but is a separate document, subject to a separate comment process. For information on those Trustees and that process, please visit http://www.gulfspillrestoration.noaa.gov. Also, the public meetings set out above will be conducted at the same times and places as public meetings related to the PDARP/PEIS.

Maureen M. Katz,
Assistant Chief, Environmental, Enforcement Section, Environment and Natural Resources Division.

[FR Doc. 2015-24936 Filed 10-2-15; 8:45 am]

BILLING CODE 4410-15-P